DEPARTMENT OF ENERGY

Federal Energy Regulatory Commission

[Project No. 14100-000]

Seneca Nation of Indians; Notice of Preliminary Permit Application Accepted for Filing and Soliciting Comments, Motions to Intervene, and Competing Applications

On February 16, 2011, the Seneca Nation of Indians filed an application for a preliminary permit, pursuant to section 4(f) of the Federal Power Act (FPA), proposing to study the feasibility of hydropower at the U.S. Army Corps of Engineers (Corps) Kinzua Dam located on the Allegheny River, near Warren, Pennsylvania. The sole purpose of a preliminary permit, if issued, is to grant the permit holder priority to file a license application during the permit term. A preliminary permit does not authorize the permit holder to perform any land-disturbing activities or otherwise enter upon lands or waters owned by others without the owners' express permission.

The Seneca Nation of Indians proposed project would consist of the following: (1) An array of eight generating units having a total installed capacity of 32,000 kilowatts, (2) a proposed 4,500-foot-long, 230-kilovolt transmission line. The proposed project would have an average annual generation of 123.0 gigawatthours.

Applicant Contact: Ms. Wendy Huff, Kinzua Dam Relicensing Commission, Seneca Nation of Indians, P.O. Box 231, 90 Ohi: yo' Way, Salamanca, NY 14779; phone (716) 945-1790.

FERC Contact: Timothy Looney; phone: (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14100-000) in the docket number field to access the document. For assistance, contact FERC Online Support.

Dated: April 12, 2011.
Kimberly D. Bose,
Secretary.

[FR Doc. 2011-9376 Filed 4-18-11; 8:45 am]

BILLING CODE 6717-01-P